DEPARTMENT OF COMMERCE

Census Bureau

2001 Residential Finance Survey

ACTION: Proposed collection; comment request.

SUMMARY: The Department of Commerce, as part of its continuing effort to reduce paperwork and respondent burden, invites the general public and other federal agencies to take this opportunity to comment on proposed and/or continuing information collections, as required by the Paperwork Reduction Act of 1995, Public Law 104-13 (44 U.S.C. 3506(c)(2)(A).

DATES: Written comments must be submitted on or before April 10, 2000.

ADDRESSES: Direct all written comments to Linda Engelmeier, Departmental Forms Clearance Officer, Department of Commerce, Room 5027, 14th and Constitution Avenue, NW, Washington, DC 20230, or by e-mail at LEngelme@doc.gov.

FOR FURTHER INFORMATION CONTACT: Requests for additional information or copies of the information collection instruments and instructions should be directed to Walter L. Busse, U.S. Census Bureau, Housing and Household Economic Statistics Division, Room 1445-3, Washington, DC 20233-8500, and telephone (301)457-3220.

SUPPLEMENTARY INFORMATION:

I. Abstract

The U.S. Census Bureau has conducted the Residential Finance Survey (RFS) every 10 years as part of the decennial census since 1950. The RFS is the only survey designed to collect and produce data about the financing of nonfarm, privately-owned residential properties.

The RFS does the following:

• Collects, tabulates, and presents data for properties, the standard unit of reference for financial transactions related to housing. In most other demographic surveys, the unit of reference is the person, household, or housing unit;

• Provides the only source of information on property, mortgage, and financial characteristics for multi-unit rental properties.; and

• Conducts interviews of property owners and mortgage lenders, resulting in more accurate information on property and mortgage characteristics.

Some uses of the RFS data are:

• As benchmark data for estimates of several economic aggregates prepared by the Bureau of Economic Analysis, such as the gross domestic product (GDP) and the national income accounts;

• As the only source of information on the acquisition, financing, and ownership of multifamily rental properties;

• As source of data for developing benchmark per-unit estimates of rents collected, operating expenses, and capital expenditures on different classes of rental properties;

• As the basis for developing an estimate of the number of age-restricted housing units and other categories of seniors' housing units, and to study how they are financed;

• As data to help the Department of Housing and Urban Development regulate the Government Sponsored Enterprises and to monitor these organizations' progress in reaching established goals, such as to expand housing opportunities for working class and low-income families, and for families in underserved communities;

• As a source of information on the sources and uses of mortgage credit in rural areas and the rates and terms relative to metropolitan areas;

• As a source of data on credit extensions of individuals and on residential investor-property finance;

• As the only source of information on non-traditional sources of mortgage credit, such as individuals, trust funds, and philanthropic organizations;

• As the basis for studying the role second mortgages, mortgage refinancings, and home equity loans play in financing modeling;

• As an excellent and comprehensive source of information on the ability of all Americans to have equal access to mortgage credit; and

• As the basis for strategic planning and business decisions by firms involved with housing or mortgage credit.

We are undertaking several steps to make sure that the content for the 2001 RFS addresses the changes that occurred in the mortgage industry during the 1990s. This includes bringing together a group of primary RFS data users and mortgage finance experts from in and out of government to develop the questionnaire content. We are also conducting cognitive testing with property owners and mortgage lenders to obtain their input on the RFS content and collection procedures, and to improve the validity of the questions asked.

II. Method of Collection

In the RFS, we select a sample of addresses identified in Census 2000. From this sample, we first decide if a property is a homeowner property or a rental property. This determines the type of questionnaire the respondent will complete. A homeowner property is defined as one having fewer than five units where the owner of the property lives in one of the units. A rental property is one with five or more units or a property of fewer than five units with none being owner occupied. Condominium apartments are homeowner properties if the owner lives in the unit and rental properties if the owner does not live in the unit.

Forms

We anticipate using the following four questionnaires to collect data for the 2001 RFS.

• An “owner seeker” letter will be mailed to units at basic street addresses having two or more housing units in order to identify the name and address of the owner or the owner's agent and to determine if the property is a homeowner property or a rental property.

• A homeowner questionnaire will be mailed to all addresses with only one unit, to all mobile homes, and to units identified on the “owner seeker” letter as having fewer than five units, one of which is owner occupied. If the property is mortgaged, the respondent will be asked to report the person or institution to whom mortgage payments are made.

• A rental and vacant property questionnaire will be mailed to owners or agents of properties with five or more housing units or those with fewer than five units when none is owner occupied as indicated by responses on the “owner seeker” letter and the homeowner questionnaire. As with the homeowner questionniare, the respondents are asked to whom mortgage payments are made.

• A lender questionnaire will be mailed to financial institutions, government agencies, firms or individuals to whom mortgage payments are made, as indicated on the homeowner and the rental and vacant property questionnaires. The questionnaire is designed to collect data on both first and junior (second or third) mortgages, including home equity lines of credit.

Timing

The “owner seeker” letters and the first round of the homeowner questionnaires are scheduled for mailout in early 2001. A second mailing of the homeowner questionnaires (those identified by the owner seeker letter) is expected in early spring 2001. The rental and vacant property questionnaires are scheduled for initial mailing in early 2001. The lender questionnaires are to be mailed in two primary cycles, the first in summer 2001 and the second in early fall 2001, with possible additional smaller mailings from follow-up operations.

Enumeration

The RFS is essentially a centralized mail-out/mail-back operation. We will limit our field interviewing for property owners to cases in which the owner was either not identified or failed to respond to the original mailed questionnaires and follow-up letters. Follow-up interviewing of lenders will occur in two stages. For financial institutions, follow-up telephone inquiries will be made. Follow-up for mortgages held by individuals will involve a telephone call and, if necessary, a personal visit by Census Bureau field representatives from the 12 census regional offices.

III. Data

OMB Number: Not available.

Form Number:

D-2900 (Homeowner Questionnaire)

D-2901 (Rental and Vacant Property Qustionnaire)

D-2902 (Lender Questionnaire)

D-2905(L) (Owner Seeker Letter)

Type of Review: Regular submission.

Affected Public: Individual property owners and lending institutions.

Estimated Number of Respondents:

D-2900—35,000 respondents

D-2901—35,000 respondents

D-2902—50,000 respondents

D-2905(L)—210,000 respondents

Estimated Time Per Response:

D-2900 @ 30 minutes/response = 17,500 hours

D-2901 @ 45 minutes/response = 26,250 hours

D-2902 @ 30 minutes/response = 25,000 hours

D-2905(L) @ 2.5 minutes/response = 8,750 hours

Estimated Total Annual Burden Hours: 77,500 hours.

Estimated Total Annual Cost: The only cost to a respondent is the time necessary to respond to this survey. There is no monetary cost to the respondent.

Respondent's Obligation: Mandatory.

Legal Authority: Title 13, U.S.C., Section 141 and Section 1113(d) of the Right to Financial Privacy Act (12 U.S.C. Section 3413(d)).

IV. Request for Comments

Comments are invited on: (a) Whether the proposed collection of the information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 3, 2000.
Linda Engelmeier,
Departmental Forms Clearance Officer, Office of the Chief Information Officer.

[FR Doc. 00-2962 Filed 2-8-00; 8:45 am]

BILLING CODE 3510-07-P